DEPARTMENT OF VETERANS AFFAIRS

Veterans' Rural Health Advisory Committee; Notice of Meeting

The Department of Veterans Affairs (VA) gives notice under Public Law 92-463 (Federal Advisory Committee Act) that the Veterans' Rural Health Advisory Committee will hold a meeting on June 1-2, 2011, in the Recreation Hall at the VA Montana Healthcare System, 3687 Veterans Drive, Ft. Harrison, Montana. The sessions will begin at 8 a.m. each day and adjourn at 4:45 p.m. on June 1 and at 5:30 p.m. on June 2. The meeting is open to the public.

The purpose of the Committee is to advise the Secretary of Veterans Affairs on health care issues affecting enrolled Veterans residing in rural areas. The Committee examines programs and policies that impact the provision of VA health care to enrolled Veterans residing in rural areas, and discusses ways to improve and enhance VA services for these Veterans.

On June 1, the Committee will hear from its Chairman, the Director of the VA Montana Healthcare System, the Veterans Integrated Service Network (VISN) 19 Women Veterans Healthcare Coordinator, Montana and surrounding region rural health project managers, the Veterans Rural Health Resource Center—Western Region Native Domain Lead, and the Office of Rural Health Director.

On June 2, the Committee will hear from the VISN 19 Network Director, VISN 19 Telehealth Manager, Veterans Health Administration (VHA) lead for the Supporting Veterans through Services for Family Caregivers Initiative, and the VHA-Nationwide Health Information Network Pilot Manager. The Committee will also break out into two workgroups. One is for the Office of Rural Health Strategic Plan discussion and work session and the other is the Committee's annual report development session.

Public comments will be received at 5 p.m. on June 2. Individuals who speak are invited to submit a 1-2 page summary of their comments for inclusion in the official meeting record. Members of the public may also submit written statements for the Committee's review to Ms. Christina White, Designated Federal Officer, Office of Rural Health (10A5A), Department of Veterans Affairs, 810 Vermont Avenue, NW., Washington, DC 20420 or at rural.health.inquiry@va.gov. Any member of the public seeking additional information should contact Ms. White at (202) 461-1933.

Dated: May 18, 2011.
By Direction of the Secretary.
William F. Russo,
Director of Regulations Management, Office of General Counsel.

[FR Doc. 2011-12641 Filed 5-23-11; 8:45 am]

BILLING CODE P